DEPARTMENT OF COMMERCE

National Oceanic and Atmospheric Administration

50 CFR Part 648

[Docket No. 201029-0281; RTID 0648-XX064]

Fisheries of the Northeastern United States; Atlantic Bluefish Fishery; 2021 Bluefish Specifications

AGENCY: National Marine Fisheries Service (NMFS), National Oceanic and Atmospheric Administration (NOAA), Commerce.

ACTION: Proposed rule; request for comments.

SUMMARY: NMFS proposes specifications for the 2021 Atlantic bluefish fishery, as recommended by the Mid-Atlantic Fishery Management Council. This action is necessary to comply with the implementing regulations of the Bluefish Fishery Management Plan that require NMFS to publish specifications for the fishery after providing the opportunity for public comment. The proposed specifications are intended to establish allowable harvest levels for the stock that will prevent overfishing, consistent with the most recent scientific information. This action also informs the public of the proposed fishery specifications and provides an opportunity for comment.

DATES: Comments must be received by November 20, 2020.

ADDRESSES: You may submit comments on this document, identified by NOAA-NMFS-2020-0129, by the following method:

Electronic Submission: Submit all electronic public comments via the Federal e-Rulemaking Portal.

1. Go to https://www.regulations.gov/docket?D=NOAA-NMFS-2020-0129,

2. Click the “Comment Now!” icon, complete the required fields, and

3. Enter or attach your comments.

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). If you are unable to submit your comment through www.regulations.gov, contact Cynthia Ferrio, Fishery Policy Analyst, Cynthia.Ferrio@noaa.gov.

Copies of the Supplemental Information Report (SIR) prepared for this action and other supporting documents for the proposed specifications are available upon request from Dr. Christopher M. Moore, Executive Director, Mid-Atlantic Fishery Management Council, Suite 201, 800 North State Street, Dover, DE 19901. These documents are also accessible via the internet at http://www.mafmc.org.

FOR FURTHER INFORMATION CONTACT: Cynthia Ferrio, Fishery Policy Analyst, (978) 281-9180.

SUPPLEMENTARY INFORMATION:

Background

The Mid-Atlantic Fishery Management Council and the Atlantic States Marine Fisheries Commission jointly manage the Atlantic Bluefish Fishery Management Plan (FMP). The FMP requires the specification of the acceptable biological catch (ABC), annual catch limit (ACL), annual catch targets (ACT), commercial quota, recreational harvest limit, and other management measures, for up to three years at a time. This action proposes bluefish specifications for the 2021 fishing year.

The August 2019 bluefish operational assessment concluded that the Atlantic bluefish stock is overfished but not subject to overfishing. The most recent data update (2020) showed increases in both commercial and recreational catch in 2019 from 2018, but no change in the stock status determinations from the 2019 assessment. Based on this best available scientific information, the Council's Scientific and Statistical Committee (SSC) found no compelling reason to change the overfishing limit, ABC, or subsequent catch limits and targets for the 2021 bluefish fishery. Therefore, the SSC recommended a status quo ABC of 7,385 metric tons (16.28 million pounds). The Council's Bluefish Monitoring Committee also made status quo recommendations for 2021 at its meeting on July 28, 2020, as projected in the revised 2020-2021 specifications final rule (85 FR 38794; June 29, 2020), consistent with the SSC.

The Bluefish FMP has a prescriptive process for deriving specifications from the ABC. First, the ACL is set equal to the ABC. Then, the ACL is allocated 17 percent to the commercial ACT, and 83 percent to the recreational ACT. Applicable discards are subtracted from each sector's ACT to calculate the sector's total allowable landings (TAL). Commercial discards are assumed to be negligible and recreational discards are projected using a terminal year estimate derived from Marine Recreational Information Program (MRIP) data. If the recreational fishery is not projected to land its harvest limit, then recreational sector quota may be transferred to the commercial sector resulting in a commercial quota of up to 10.5 million pounds (4,763 metric tons). The final commercial quota is then allocated to coastal states from Maine to Florida based on percent shares specified in the FMP.

The Council and the Commission's Bluefish Management Board approved catch specifications for fishing year 2021 at a joint meeting in August 2020, based on the data update and recommendations from the SSC and Monitoring Committee. The Council and Board recommended status quo specifications for the 2021 bluefish fishery using the most recent catch and discard data to calculate the final harvest limits. This recommendation uses the complete and final 2019 estimates for recreational catch and discards, which increase the recreational discard estimates from what were originally projected for 2021 and subsequently decreases the recreational TAL and harvest limit. The recreational sector is still projected to fully achieve this recreational harvest limit with the updated estimates, so no sector transfer to the commercial fishery is permitted. The Council and Board did not recommend changes to any other regulations in place for bluefish; therefore, all other fishery management measures will remain unchanged for the 2021 fishing year unless changed through a separate rulemaking.

Proposed Specifications

This action proposes the Council's recommendations for 2021 bluefish catch specifications, which are consistent with the SSC's recommendations. A comparison of the current 2020 and the proposed 2021 specifications is summarized below in Table 1.

Table 1—Summary of Current 2020 and Proposed 2021 Bluefish Specifications *
| Current 2020 specifications: million lb | Current 2020 specifications: metric tons | Proposed 2021 specifications: million lb | Proposed 2021 specifications: metric tons
Overfishing Limit | 32.97 | 14,955 | 37.98 | 17,228
ABC = ACL | 16.28 | 7,385 | 16.28 | 7,385
Commercial ACT | 2.77 | 1,255 | 2.77 | 1,255
Recreational ACT | 13.51 | 6,130 | 13.51 | 6,130
Commercial Discards | 0 | 0 | 0 | 0
Recreational Discards | 4.03 | 1,829 | 5.17 | 2,343
Commercial TAL | 2.77 | 1,255 | 2.77 | 1,255
Recreational TAL | 9.48 | 4,301 | 8.34 | 3,785
Sector Transfer | 0.00 | 0 | 0.00 | 0
Commercial Quota | 2.77 | 1,255 | 2.77 | 1,255
Recreational Harvest Limit | 9.48 | 4,301 | 8.34 | 3,785
* Specifications are derived from the ABC in metric tons (mt). When values are converted to millions of pounds the numbers may slightly shift due to rounding. The conversion factor used is 1 mt = 2204.6226 pounds.

These proposed specifications are largely status quo compared to the current 2020 catch limits, with only slight changes to the recreational TAL and recreational harvest limit to account for the increase in recreational discards. The Council and Board did not recommend any changes to the recreational management measures in these specifications, but may do so through a separate action at the joint meeting in December 2020. Therefore, this proposed action does not change the existing recreational daily bag limits of three fish per person for private anglers and five fish per person for for-hire (charter/party) vessels. All other Federal management measures, including commercial management measures, and recreational season (open all year) and minimum fish size (none), will also remain unchanged.

Table 2 provides the proposed commercial state allocations based on the Council-recommended coastwide commercial quota for 2021. No state exceeded its allocated quota in 2019, nor is projected to do so in 2020; therefore, no accountability measures for the commercial fishery are required for the 2021 fishing year.

Table 2—Proposed 2021 Bluefish State Commercial Quota Allocations
State | Percent share | Proposed quota (lb) | Proposed quota (kg)
Maine | 0.67 | 18,503 | 8,391
New Hampshire | 0.41 | 11,473 | 5,203
Massachusetts | 6.72 | 185,904 | 84,310
Rhode Island | 6.81 | 188,434 | 85,458
Connecticut | 1.27 | 35,049 | 15,895
New York | 10.39 | 287,438 | 130,357
New Jersey | 14.82 | 410,082 | 185,978
Delaware | 1.88 | 51,985 | 23,576
Maryland | 3.00 | 83,084 | 37,680
Virginia | 11.88 | 328,800 | 149,116
North Carolina | 32.06 | 887,377 | 402,438
South Carolina | 0.04 | 974 | 442
Georgia | 0.01 | 263 | 119
Florida | 10.06 | 278,432 | 126,273
Total | 100.00 | 2,767,793 | 1,255,235

The Council is developing a rebuilding plan for the bluefish stock that will be implemented by the end of November 2021. This rebuilding plan will inform development of the next set of specifications for fishing year 2022.

Classification

Pursuant to section 304(b)(1)(A) of the Magnuson Stevens Fishery Conservation and Management Act (Magnuson-Stevens Act), the NMFS Assistant Administrator has determined that this proposed rule is consistent with the Atlantic Bluefish FMP, other provisions of the Magnuson-Stevens Act, and other applicable law, subject to further consideration after public comment.

This proposed rule is exempt from review under Executive Order 12866.

This proposed rule is not an Executive Order 13771 regulatory action because this rule is not significant under Executive Order 12866.

The Chief Counsel for Regulation of the Department of Commerce certified to the Chief Counsel for Advocacy of the Small Business Administration that this proposed rule, if adopted, would not have a significant economic impact on a substantial number of small entities. The factual basis for this determination is as follows.

The Council conducted an evaluation of the potential socioeconomic impacts of the proposed measures in conjunction with a SIR. There are no proposed regulatory changes in this bluefish action, so none are considered in the evaluation. The proposed 2021 specifications will maintain the existing 2020 bluefish catch limits and management measures with only minor adjustments to the final recreational TAL and recreational harvest limit.

According to the Northeast Fisheries Science Center commercial ownership database, 735 affiliate firms landed bluefish commercially during 2016-2018. Of those commercial fishing operations, 728 are categorized as small businesses and 7 as large businesses. For the recreational for-hire fishery, 389 for-hire affiliate firms generated revenues from recreational fishing for various species during 2016-2018. All of those business affiliates are categorized as small businesses, but it is not possible to derive the proportion of overall revenues for these for-hire firms resulting from fishing activities for an individual species, such as bluefish.

The Council-recommended specifications for 2021 are expected to provide similar fishing opportunities when compared to the previous year, because they are largely status quo. As such, revenue changes are not expected in 2021 as a result of the proposed action. Overall, analyses indicate that the proposed specifications will not substantially change: Fishing effort, the risk of overfishing, prices/revenues, or fishery behavior. Additionally, this action will not have a significant impact on small entities. As a result, an initial regulatory flexibility analysis is not required and none has been prepared.

This proposed rule contains no information collection requirements under the Paperwork Reduction Act of 1995.

Authority: 16 U.S.C. 1801 et seq.

Dated: October 29, 2020.
Samuel D. Rauch III,
Deputy Assistant Administrator for Regulatory Programs, National Marine Fisheries Service.

[FR Doc. 2020-24364 Filed 11-4-20; 8:45 am]

BILLING CODE 3510-22-P